DEPARTMENT OF HEALTH AND HUMAN SERVICES

Administration for Children and Families

Submission for OMB Review; Comment Request

Title: National Child Abuse and Neglect Data System.

OMB No.: 0980-0256 and 0980-0229.

Description: The Child Abuse and Treatment Act (42 U.S.C. 5101 et seq.) as amended requires States that receive the CAPTA State Child Abuse and Neglect Grant “to annually work with the Secretary to provide, to the maximum extent practicable, a report that includes (the 12 data items listed in the statute.” The National Child Abuse and Neglect Data System (NCANDS), administered by the Children's Bureau, meets this reporting requirement. The two components of the NCANDS, the Detailed Case Data Component (DCDC) and the Summary Data Component (SDC) are being updated in order to address all items in the legislation and to be consistent with each other.

Respondents: State Child Welfare Agencies.

Annual Burden Estimates
Instrument | Number of respondents | Number of responses per respondent | Average burden hours per response | Total burden hours
DCDC | 30 | 1 | 130 | 3,900
SDC | 22 | 1 | 40 | 880
Estimated Total Annual Burden Hours |  |  |  | 4,780

Additional Information: Copies of the proposed collection may be obtained by writing to The Administration for Children and Families, Office of Information Services, 370 L'Enfant Promenade, SW, Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, 725 17th Street, NW, Washington, DC 20503, Attn: Desk Officer for ACF.

Dated: April 25, 2000.
Bob Sargis,
Reports Clearance Officer.

[FR Doc. 00-10694 Filed 4-28-00; 8:45 am]

BILLING CODE 4184-01-M